DEPARTMENT OF HEALTH AND HUMAN SERVICES

Office of the Secretary

[Document Identifier HHS-OS-20358-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0317, scheduled to expire on October 31, 2013. Comments submitted during the first public review of this ICR will be provided to OMB. OMB will accept further comments from the public on this ICR during the review and approval period.

DATES: Comments on the ICR must be received on or before December 2, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0317 and document identifier HHS-OS-20358-30D for reference.

Information Collection Request Title: HHS Supplemental Form to the SF-424 (HHS 5161-1).

OMB No.: 0990-0317.

Abstract: HHS is requesting clearance for use of the Checklist and Program Narrative, with non-substantial changes, & the Public Health System Impact Statement (PHSIS), used by the Substance Abuse and Mental Health Services Administration (SAMHSA) and several former PHS agencies within HHS; CDC 0.1113 supplemental forms used exclusively by CDC; a supplement form used exclusively by SAMHSA, and the Single Source Agency (SSA) notification form, as well as continued use of the project abstract form. In addition, SAMHSA will continue to include the HHS grant application checklist form.

Need and Proposed Use of the Information: Each agency's financial assistance program evaluates the information provided by the applicants to select the ones most likely to meet program objectives and to determine that satisfactory progress is being made on funded projects.

Likely Respondents: CDC, SAMHSA, IHS, OS, FDA, and HRSA.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Forms | Number of respondents | Response per respondent | Average burden per response (in hours) | Total burden (in hours)
Program Narrative, Checklist, & Project Abstract | 7,338 | 1 | 4 | 29,373
Program Narrative, Checklist & Project Narrative (CDC) | 59 | 6 | 24 | 8,496
Program Narrative, Checklist, & Project Narrative (HRSA) | 59 | 1 | 50 | 2,950
CDC Form 0.1113 | 1,000 | 1 | 30/60 | 500
Public Health Impact Statement (PHSIS) | 2,845 | 2.5 | 10/60 | 1,185
Total |  |  |  | 42,691

Darius Taylor,
Deputy, Information Collection Clearance Officer.

[FR Doc. 2013-26001 Filed 10-31-13; 8:45 am]

BILLING CODE 4151-17-P